DEPARTMENT OF TRANSPORTATION

Federal Railroad Administration

[Docket No. FRA-2003-15100]

Notice of Informal Safety Inquiry

AGENCY: Federal Railroad Administration (FRA), DOT.

ACTION: Notice of informal safety inquiry; technical conference.

SUMMARY: Pursuant to 49 CFR 211.61, FRA is issuing this document to notify all interested parties that FRA is conducting an informal safety inquiry and technical conference related to the application of safety appliances on passenger equipment. The primary focus of this informal safety inquiry and technical conference is to elicit views and information from interested parties to aid FRA in its safety oversight of existing passenger equipment with safety appliance arrangements that are mechanically affixed to brackets or plates that are welded onto the equipment. FRA intends for this informal inquiry to clarify further both the safety concerns and economic considerations involved in the various approaches available to FRA for addressing this existing equipment. The technical conference may also include a general discussion of the safety issues and practical concerns related to FRA's general prohibition on the weldment of safety appliances and safety appliance brackets or supports.

DATES: Technical Conference: A technical conference will be held on the date and at the location listed below to provide interested parties the opportunity to provide information and discuss the safety and economic issues related to the agency's handling of existing passenger equipment with safety appliances that are attached to the vehicles with some form of welded brackets, plates, or direct fixation. The date of the technical conference is as follows: June 17, 2003, at 10 a.m. in Washington, DC.

Comments: In addition to, or in lieu of, participation in the technical conference, interested parties may submit comments and information relevant to the issues identified in this notice or discussed at the technical conference to the address noted below. Such written materials should be received within 30 days after the date of the technical conference, noted above.

ADDRESSES: (1) Technical Conference: The technical conference will be held in the Adams Room at the Washington Plaza Hotel, 10 Thomas Circle, NW., Washington, DC 20005.

(2) Attendance: Notification to FRA's Docket Clerk must identify the name, address, and telephone number of each participant or attendee at the technical conference. This notification should be submitted to the Docket Clerk, Office of Chief Counsel, Federal Railroad Administration, RCC-10, 1120 Vermont Avenue, NW., Stop 10, Washington, DC 20590.

(3) Comments: Anyone wishing to file a comment related to this informal safety inquiry should refer to the FRA docket number (Docket No. FRA-2003-15100). You may submit your comments and related material by only one of the following methods:

(i) By mail to the Docket Management System, United States Department of Transportation, room PL-401, 400 7th Street, SW., Washington, DC 20590-0001; or

(ii) Electronically through the Web site for the Docket Management System at http://dms.dot.gov. For instructions on how to submit comments electronically, visit the Docket Management System Web site and click on the “help” menu.

The Docket Management Facility maintains the public docket for this rulemaking. Comments and documents as indicated in this preamble will become part of this docket and will be available for inspection or copying at room PL-401 on the Plaza Level of the Nassif building at the same address during regular business hours. You may also obtain access to this docket on the Internet at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION, CONTACT: Steve Carullo, Safety Specialist, Motive Power and Equipment Division, FRA Office of Safety Assurance and Compliance, RRS-14, 1120 Vermont Avenue, NW., Stop 25, Washington, DC 20950 (telephone 202-493-6480), or Thomas Herrmann, Trial Attorney, FRA Office of the Chief Counsel, RCC-10, 1120 Vermont Avenue, NW., Stop 10, Washington, DC 20950 (telephone 202-493-6053).

SUPPLEMENTARY INFORMATION: The purpose of the technical conference is to permit the exchange of information and concerns regarding FRA's safety oversight of existing passenger equipment containing safety appliances that are attached to the equipment by some form of weldment, typically the weldment of a bracket or plate to which the safety appliance is then mechanically fastened. Historically, FRA has required that safety appliances be mechanically fastened to the car structure. FRA has also historically required that any brackets or supports applied to a car structure solely for the purpose of securing a safety appliance must be mechanically fastened to the car body. See MP&E Technical Bulletin 98-14. FRA's prohibition on the weldment of safety appliances and their supports is based on its longstanding administrative interpretation of the regulatory “manner of application” provisions contained in 49 CFR part 231 which require that safety appliances be “securely fastened” with a specified mechanical fastener. See e.g., 49 CFR 231.12(c)(4); 231.13(b)(4); 231.14(b)(4) and (f)(4). FRA's prohibition on the welding of safety appliances is based on its belief that welds are not uniform, are subject to failure, and are very difficult to inspect to determine if the weld is broken or cracked. Mechanical fasteners, by contrast, are generally easily inspectable and tend to become noticeably loose prior to failure.

Generally, FRA's longstanding interpretation of the regulation prohibiting the weldment of safety appliances has not been seriously questioned or opposed since its inception. Virtually all railcars manufactured for use in the United States have their safety appliances and their safety appliance brackets and supports mechanically fastened to the car body, unless a specific exception has been provided by FRA or the regulations. FRA acknowledges that it has permitted the weldment of certain safety appliances or their brackets and supports on locomotives and tanks cars. See MP&E Technical Bulletins 98-48 and 00-06. Although, FRA intends for this safety inquiry and technical conference to address and discuss FRA's general prohibition on the weldment of safety appliances or their supports, FRA expects the primary focus of this proceeding to be specifically directed at the safety and economic implications related to the continued operation or modification of existing passenger equipment with welded safety appliances or safety appliance brackets or supports.

Although FRA has remained consistent in its prohibition on the weldment of safety appliances and their supports, some passenger equipment has been manufactured and used in revenue service for a number of years with safety appliances being attached to the car body with some form of weldment. Currently, FRA is aware of approximately 1,000 passenger cars or locomotives that have safety appliances or safety appliance brackets or supports welded to the body of the equipment. Some units of this equipment were introduced into service within the last few years; others have been in service for more than a decade. Some of the 1,000 units noted above have been the subject of formal waiver requests pursuant to the provisions contained in 49 CFR part 211. See FRA Docket Nos. 2000-8588 and 2000-8044. Although FRA's Safety Board has issued determinations in these two instances, FRA intends to stay those decisions until the completion of this informal safety inquiry. Based on its review of the information gathered during this inquiry and any other relevant information, FRA's Safety Board may reaffirm its previous decisions in these two waiver proceedings or modify them as necessary.

Based on the foregoing information, FRA expects the focus of the discussions at the technical conference and written comments submitted in connection with this informal safety inquiry to include the following issues:

• The safety implications related to the continued use of existing passenger equipment with welded safety appliances or supports;

• Criteria for determining when an existing piece of passenger equipment with a welded appliance or support is defective or unsafe or both;

• The economic implications of any type of modification program on the subject cars;

• Alternative approaches to mandatory modification of existing equipment (e.g., notification of when the appliances become or replacement of the appliances when they become defective; mid-life over-hauls) and the economic implication of any suggested approach;

• The safety implications and standards that should and could be addressed, were FRA to reconsider its long-standing administrative interpretation related to the weldment of safety appliances and their supports, such as:

—What part or parts of an appliance should FRA allow to be welded (e.g., just brackets and supports)?

—To what base structure or material should these have to be welded (e.g., structural member, car sheathing)?

—What quality control standards should apply to the welding process?

—What qualifications/training should the individual performing the welding need to possess?

—How should field or shop repairs or both be conducted on equipment with welded safety appliances or supports?

—What are the safety implications of allowing such repairs?

—When should a weld be considered defective?

—What visual and non-destructive inspection techniques are appropriate for welds?

—At what interval should welds be inspected?

—What records, if any, should be maintained of these inspections?

• Other relevant issues or information.

Public Participation Procedures

Any person wishing to attend the technical conference should notify FRA's Docket Clerk by mail at the address provided in the ADDRESSES section at least five working days prior to the date of the meeting and submit three copies of the issues or materials they wish to present at the conference. The notification should identify the party the person represents, and the particular subject(s) the person plans to address. The notification should also provide the Docket Clerk with the participant's mailing address. FRA reserves the right to limit participation in the conference of persons who fail to provide such notification.

Issued in Washington, DC, on May 2, 2003.
George A. Gavalla,
Associate Administrator for Safety.

[FR Doc. 03-11457 Filed 5-7-03; 8:45 am]

BILLING CODE 4910-06-P